FEDERAL ELECTION COMMISSION

Sunshine Act Meeting

AGENCY: Federal Election Commission.

Previously Announced Date & Time: Tuesday, July 29, 2003, 10:00 A.M. Meeting Closed to the Public. This Meeting Was Cancelled.

Date and Time: Tuesday, August 12, 2003 at 10:00 A.M.

Place: 999 E Street, NW., Washington, DC.

Status: This meeting will be closed to the public.

Items To Be Discussed: Compliance matters pursuant to 2 U.S.C. 437g. Audits conducted pursuant to 2 U.S.C. 437g, § 438(b), and Title 26, U.S.C. Matters concerning participation in civil actions or proceedings or arbitration. Internal personnel rules and procedures or matters affecting a particular employee.

Date and Time: Thursday, August 14, 2003 at 10:00 A.M.

Place: 999 E Street, NW., Washington, DC (Ninth Floor).

Status: This meeting will be open to the public.

Items To Be Discussed: Correction and Approval of Minutes.

Draft Advisory Opinion 2003-15: Denise Majette, A member of the U.S. House of Representatives, and the Committee to Re-Elect congresswoman Denise Majette, by counsel G. Scott Rafshoon.

Draft Advisory Opinion 2003-16: Providian National Bank, by counsel Kenneth A. Gross and Ki P. Hong.

Draft Advisory Opinion 2003-19: Democratic Congressional Campaign Committee by counsel, Judith Corley and Brian Svoboda.

Proposed Policy Statement on Deposition Transcripts in Nonpublic Investigations.

Notice of Proposed Rulemaking on Campaign Travel.

Notice of Proposed Rulemaking on Multicandidate Committee Status & Bi-annual Limits.

Routine Administrative Matters.

FOR FURTHER INFORMATION CONTACT: Mr. Ron Harris, Press Officer, Telephone: (202) 694-1220.

Mary W. Dove,
Secretary of the Commission.

[FR Doc. 03-20329 Filed 8-5-03; 3:25 pm]

BILLING CODE 6715-01-M